DEPARTMENT OF COMMERCE

National Oceanic and Atmospheric Administration

50 CFR Part 648

[Docket No. 120109034-2171-01]

RIN 0648-XE120

Fisheries of the Northeastern United States; Small-Mesh Multispecies Fishery; Adjustment to the Northern Red Hake Inseason Possession Limit

AGENCY: National Marine Fisheries Service (NMFS), National Oceanic and Atmospheric Administration (NOAA), Commerce.

ACTION: Temporary rule; inseason adjustment.

SUMMARY: We announce the reduction of the commercial possession limit for northern red hake for the remainder of the 2015 fishing year. This action is required to prevent the northern red hake total allowable landing limit from being exceeded. This announcement informs the public that the northern red hake possession limit is reduced.

DATES: Effective August 24, 2015, through April 30, 2016.

FOR FURTHER INFORMATION CONTACT: Reid Lichwell, Fishery Management Specialist, 978-675-9112.

SUPPLEMENTARY INFORMATION: The small-mesh multispecies fishery is managed primarily through a series of exemptions from the Northeast Multispecies Fisheries Management Plan. Regulations governing the red hake fishery are found at 50 CFR part 648. The regulations describing the process to adjust inseason commercial possession limits of northern red hake are described in § 648.86(d)(4) and (5). These regulations require the Regional Administrator to reduce the northern red hake possession limit from 3,000 lb (1,361 kg) to 1,500 lb (680 kg) when landings have been projected to reach or exceed 45 percent of the total allowable landings (TAL). The northern red hake possession limit is required to be further reduced to 400 lb (181 kg) if landings are projected to reach or exceed 62.5 percent of the TAL, unless such a reduction would be expected to prevent the TAL from being reached. The final rule implementing the small-mesh multispecies specifications for 2015-2017, which published in the Federal Register on May 28, 2015 (80 FR 30379), set these inseason adjustment thresholds. These measures were imposed because the annual catch limits (ACL) for northern red hake were exceeded for the 2012 and 2013 fishing years, and northern red hake was experiencing overfishing. We implemented this possession limit reduction trigger to reduce the risk of continued overfishing on the stock and to better constrain catch to the ACL.

On August 12, 2015, the northern red hake commercial possession limit was reduced from 3,000 lb (1,361 kg) to 1,500 lb (680 kg) because the overall commercial landings reached 45 percent of the TAL. Based on commercial landings data reported through July 30, 2015, the northern red hake fishery is projected to reach 65.2 percent of the TAL on August 22, 2015. Based on this projection, reducing the commercial northern red hake possession limit from 1,500 lb (680 kg) to 400 lb (181 kg) is required to prevent the TAL from being exceeded. Upon the effective date of this action, no person may possess on board or land more than 400 lb (181 kg) of northern red hake per trip for the remainder of the fishing year (i.e., through April 30, 2016).

Classification

This action is taken under 50 CFR part 648 and is exempt from review under Executive Order 12866.

Authority: 16 U.S.C. 1801 et seq.

Dated: August 19, 2015.
Emily H. Menashes,
Acting Director, Office of Sustainable Fisheries, National Marine Fisheries Service.

[FR Doc. 2015-20862 Filed 8-19-15; 4:15 pm]

BILLING CODE 3510-22-P